FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Senior Loan Officer Opinion Survey on Bank Lending Practices (FR 2018; OMB No. 7100-0058).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, Without Revision, of the Following Information Collection

Collection title: Senior Loan Officer Opinion Survey on Bank Lending Practices.

Collection identifier: FR 2018.

OMB control number: 7100-0058.

General description of collection: A senior loan officer at each respondent bank completes this voluntary survey through an electronic submission up to six times a year. Senior staff at the Reserve Banks with knowledge of bank lending practices serve as the main contacts for the survey respondents in their district and help administer the survey. The current reporting panel consists of up to 80 large domestically chartered commercial banks and up to 24 large U.S. branches and agencies of foreign banks. The purpose of the survey is to provide qualitative and limited quantitative information on credit availability and demand, as well as on evolving developments and lending practices in the U.S. loan markets. A portion of each survey typically covers special topics of timely interest.

Frequency: Quarterly.

Respondents: Domestically chartered commercial banks and U.S. branches and agencies of foreign banks. Other types of respondents (such as other depository institutions, bank holding companies, or other financial entities) may also be surveyed if appropriate.

Total estimated number of respondents: 104.

Total estimated annual burden hours: 1,248.¹

¹ More detailed information regarding this collection, including more detailed burden estimates, can be found in the OMB Supporting Statement posted at https://www.federalreserve.gov/apps/reportingforms/home/review. On the page displayed at the link, you can find the OMB Supporting Statement by referencing the collection identifier, FR 2018.

Current actions: On November 14, 2023, the Board published a notice in the Federal Register (88 FR 78024) requesting public comment for 60 days on the extension, without revision, of the FR 2018. The comment period for this notice expired on January 16, 2024. The Board did not receive any comments.

Board of Governors of the Federal Reserve System.
Ann Misback,
Secretary of the Board.

[FR Doc. 2024-07089 Filed 4-2-24; 8:45 am]

BILLING CODE 6210-01-P